FEDERAL COMMUNICATIONS COMMISSION

[CC Docket No. 92-237; DA 20-563]

Next Meetings of the North American Numbering Council

AGENCY: Federal Communications Commission.

ACTION: Notice.

SUMMARY: In this document, the Commission released a public notice announcing the next meetings of the North American Numbering Council (NANC), which will be held via conference call and available to the public via live internet feed.

DATES: Tuesday, July 14, 2020. The meeting will come to order at 2:00 p.m. The next meeting will be on Tuesday, July 28, 2020. This meeting will come to order at 9:30 a.m.

ADDRESSES: Both meetings will be conducted via conference call and available to the public via the internet at http://www.fcc.gov/live.

FOR FURTHER INFORMATION CONTACT: Marilyn Jones, Designated Federal Officer (DFO) of the NANC, at marilyn.jones@fcc.gov or 202-418-2357 and Jordan Reth, Deputy DFO, at jordan.reth@fcc.gov or 202-418-1418. More information about the NANC is available at https://www.fcc.gov/about-fcc/advisory-committees/general/north-american-numbering-council.

SUPPLEMENTARY INFORMATION: The NANC meetings are open to the public on the internet via live feed from the FCC's web page at http://www.fcc.gov/live. Open captioning will be provided for the events. Other reasonable accommodations for people with disabilities are available upon request. Requests for such accommodations should be submitted via email to fcc504@fcc.gov or by calling the Consumer & Governmental Affairs Bureau at (202) 418-0530 (voice), (202) 418-0432 (TTY). Such requests should include a detailed description of the accommodation needed. In addition, please include a way for the FCC to contact the requester if more information is needed to fill the request. Please allow at least five days' advance notice for accommodation requests; last minute requests will be accepted but may not be possible to accommodate. Oral statements at the meetings by parties or entities not represented on the NANC will be permitted to the extent time permits, at the discretion of the NANC Chair and the DFO. Members of the public may submit comments to the NANC in the FCC's Electronic Comment Filing System, ECFS, at www.fcc.gov/ecfs. Comments to the NANC should be filed in CC Docket No. 92-237. This is a summary of the Commission's document in CC Docket No. 92-237, DA 20-563 released May 27, 2020.

Proposed Agenda: At the July 14 meeting, the NANC will consider and vote on recommendations from the Numbering Administration Oversight Working Group on the Billing & Collection Fund Size Projections and Contributions Factor and from the Toll Free Number Assignment Modernization Working Group on the analysis of the 833 Toll Free Number Auction. At the July 28 meeting, the NANC will consider and vote on recommendations from the Nationwide Number Portability Working Group on an analysis of the internet Protocol Local Routing Number solution and from the Interoperable Video Calling Working Group on the implementation of the “database approach” to determine whether an originating video call can be completed to a receiving device and service. This agenda may be modified at the discretion of the NANC Chair and the Designated Federal Officer (DFO).

Federal Communications Commission.
Daniel Kahn,
Associate Bureau Chief, Wireline Competition Bureau.

[FR Doc. 2020-12376 Filed 6-8-20; 8:45 am]

BILLING CODE 6712-01-P